DEPARTMENT OF ENERGY

Federal Energy Regulatory Commission

[Docket No. EL13-76-000]

AmerenEnergy Resources Generating Company (Complainant) v. Midcontinent Independent System Operator, Inc. (Respondent); Notice of Supplement to Complaint

Take notice that on February 20, 2014, Illinois Power Marketing Company (IPM) and Illinois Power Resources Generating, LLC (IPRG) filed a supplement to the July 5, 2013 filed complaint (July 5 Complaint) against Midcontinent Independent System Operator, Inc. (MISO), pursuant to sections 206 of the Federal Power Act, 16 U.S.C. 824e and 18 CFR 385.206, regarding the compensation that a System Support Resource unit should be provided under MISO's Tariff, as more fully explained in the supplement to the July 5 Complaint.

IPM and IPRG certify that copies of the supplement were served on MISO and on persons designated for service on the official service list complied in Docket No. EL13-76.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on April 14, 2014.

Dated: March 25, 2014.
Kimberly D. Bose,
Secretary.

[FR Doc. 2014-07182 Filed 3-31-14; 8:45 am]

BILLING CODE 6717-01-P